FEDERAL COMMUNICATIONS COMMISSION

Notice of Public Information Collection(s) Being Submitted for Review and Approval to the Office of Management and Budget (OMB), Comments Requested

November 15, 2010.

Summary: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a valid control number.

Dates: Written Paperwork Reduction Act (PRA) comments should be submitted on or before December 30, 2010. If you anticipate that you will be submitting PRA comments, but find it difficult to do so within the period of time allowed by this notice, you should advise the FCC contact listed below as soon as possible.

Addresses: Direct all PRA comments to Nicholas A. Fraser, Office of Management and Budget, via fax at 202-395-5167 or the Internet at Nicholas_A._Fraser@omb.eop.gov; and to the Federal Communications Commission's PRA mailbox (e-mail address: PRA@fcc.gov). Include in the e-mail the OMB control number of the collection as shown in the SUPPLEMENTARY INFORMATION section below, or if there is no OMB control number, include the Title as shown in the SUPPLEMENTARY INFORMATION section. If you are unable to submit your comments by email, contact the person listed below to make alternate arrangements.

For Further Information Contact: For additional information, contact Judith B. Herman at 202-418-0214 or via the Internet at Judith-b.herman@fcc.gov.

Supplementary Information:

OMB Control Number: 3060-1092.

Title: Interim Procedures for Filing Applications Seeking Approval for Designated Entity Reportable Eligibility Events and Annual Reports.

Form Nos.: FCC Form 609-T and 611-T.

Type of Review: Extension of a currently approved collection.

Respondents: Business or other for-profit, not-for-profit institutions, and state, local or tribal government.

Number of Respondents: 1,100 respondents; 2,750 responses.

Estimated Time per Response: FCC Form 609-T is estimated at 4 hours per response; FCC Form 611-T is estimated at 6 hours per response.

Frequency of Response: Annual and on occasion reporting requirement and third party disclosure requirement.

Obligation To Respond: Required to obtain or retain benefits. Statutory authority for this information collection is contained in 47 U.S.C. 4(i), 308(b), 309(j)(3) and 309(j)(4).

Total Annual Burden: 7,288 hours.

Total Annual Cost: $1,494,625.

Privacy Act Impact Assessment: N/A.

Nature and Extent of Confidentiality: Some respondents may assert that some data and/or agreements that they are filing in response to these information collection requirements include confidential information or trade secrets. The Commission has long established procedures for accepting confidential and market-sensitive documents and information via the Commission's Universal Licensing System (ULS). These long standing procedures will be followed to ensure that no confidential materials or trade secrets are disclosed.

Most of the information collected will be made available for public inspection. Applicants may seek confidential treatment pursuant to 47 CFR 0.459 of the Commission's rules governing requests to withhold from public inspection information submitted to the Commission. The ULS allows for information to be filed confidentially. Confidentially filed materials will only be accessible to Commission employees who have been issued passwords.

Needs and Uses: The Commission will submit this expiring information collection (IC) to the OMB during this comment period. The Commission is reporting no change in its burden hour or annual cost estimates. The Commission is seeking OMB approval for an extension (there are no change to the reporting requirements).

FCC Form 609-T is used by Designated Entities (DEs) to request prior Commission approval pursuant to Section 1.2114 of the Commission's rules for any reportable eligibility event. The data collected on the form is used by the FCC to determine whether the public interest would be served by the approval of the reportable eligibility event.

FCC Form 611-T is used by DE licensees to file an annual report, pursuant to section 1.2110(n) of the Commission's rules, related to eligibility for designated entity benefits.

The information collected will be used to ensure that only legitimate small businesses reap the benefits of the Commission's designated entity program. Further, this information will assist the Commission in preventing companies from circumventing the objectives of the designated entity eligibility rules by allowing us to review: (1) The FCC Form 609-T applications seeking approval for “reportable eligibility events” and (2) the FCC Form 611-T annual reports to ensure that licensees receiving designated entity benefits are in compliance with the Commission's policies and rules.

Marlene H. Dortch,
Secretary.

[FR Doc. 2010-30007 Filed 11-29-10; 8:45 am]

BILLING CODE 6712-01-P